DEPARTMENT OF AGRICULTURE

Forest Service

Shasta-Trinity National Forest; California; East McCloud Plantations Thinning Project

AGENCY: Forest Service, USDA.

ACTION: Notice of intent to prepare an environmental impact statement.

SUMMARY: The Forest Service will prepare an environmental impact statement (EIS) to evaluate and disclose the predicted effects of the East McCloud Plantations Thinning project, which would treat conifer plantations on approximately 9,266 acres to improve forest health and increase resiliency to natural events such as drought, insect and disease infestations and severe wildfire. Treatments would include commercial and non-commercial thinning and hazardous fuels reduction using mechanical and hand methods. Proposed connected actions include road maintenance and reconstruction of National Forest System, new road construction and addition of new roads and selected existing unauthorized routes to the Forest Transportation System to support future management activities. The project is located in Siskiyou and Shasta Counties, California, on the northeast corner of the Shasta-McCloud Management Unit of the Shasta-Trinity National Forest. The project's legal description is: Portions of Township (T.) 39 North (N.), Range (R.) 1-3 East (E.); T. 40 N., R. 2, 3 E.; T. 41 N., R. 2-4 E.; T. 42 N., R. 3, 4 E., MBM. The project area is approximately 18 miles northeast of the town of McCloud, California, and 70 miles northeast of Redding, California.

DATES: Comments concerning the scope of the analysis must be received by October 3, 2012. The draft environmental impact statement is expected in July 2013 and the final environmental impact statement is expected November 2013.

ADDRESSES: Send written comments to Nisha van Hees, USDA Forest Service, Shasta McCloud Management Unit, 204 West Alma Street, Mount Shasta, California 96067. Comments may also be sent via email to comments-pacificsw-shasta-trinity-mtshasta-mccloud@fs.fed.us or via facsimile to (530) 926-9678. Verbal comments must be received in person at the Mt. Shasta Ranger Station, 204 West Alma Street in Mt. Shasta, California, or by telephone at (503) 926-9664 during normal business hours (8:00 a.m.-4:30 p.m.).

FOR FURTHER INFORMATION CONTACT: Nisha van Hees, TSI Program Manager/District Culturist, at 530-926-9664.

Individuals who use telecommunication devices for the deaf (TDD) may call the Federal Information Relay Service (FIRS) at 1-800-877-8339 between 8 a.m. and 8 p.m., Eastern Time, Monday through Friday.

SUPPLEMENTARY INFORMATION:

Purpose and Need for Action

Past reforestation activities in the project area have resulted in hundreds of dense conifer plantations which will soon reach or already exceed site capability to sustain healthy and vigorous trees. Competition for limited water, sunlight, and nutrients as well as high tree density have resulted in decreasing growth rates and increasing susceptibility to major insect attacks and other factors such as drought, root disease, storm damage, mistletoe infestations and severe wildfire. Recent drought conditions in the western United States have put additional environmental stress on plantations that are growing at high stand densities such as those in the project area.

Current conditions cannot sustain plantation capacity to meet the future stand growth, production, and development potential needed to meet the goals and future desired conditions directed in the Shasta-Trinity National Forest's Land and Resource Management Plan (Forest Plan). The Forest Service proposes to reduce competition in selected plantations at this time to promote the development of mature forests and reduce the probability of density- and drought-related mortality in the plantations.

Approximately one hundred years of fire suppression have contibuted to the current conditions of overcrowding and trending towards slow tree growth, low stand health, and density-related mortality. The project area is susceptible to uncharacteristically severe, stand-destroying wildfire due to the increasing surface fuel accumulation, tree density and number of dead trees in the canopy. The exclusion of fire has also resulted in understory vegetation extending into the forest canopy creating fuel ladders into the overstory vegetation. In the case of a wildfire during the summer season, fire behavior modeling predicts rates of spread, flame lengths, and resistance to control that would contribute to significant mortality and post-fire damage in plantations. The project is needed at this time to restore and sustain healthy, disturbance-resilient ecosystems by reducing woody fuels, forest densities and landscape homogeneity.

Proposed Action

The proposed action would treat conifer plantations ranging from 4-55 years of age; ranging in size from approximately one-third to 300 acres, using the following silvicultural prescriptions: (1) Thin from below on 5,173 acres using mechanical and hand methods; (2) Thin from below combined with mastication to remove 55-90 percent of the brush on 2,333 acres; (3) Mastication only on 1,760 acres in areas with small diameter trees and dense or large brush (all acres are approximate).

About 93 percent of the proposed treatment acres are outside the designated Late Successional Reserves (LSR). Thinning outside of the LSR would include retention of tall healthy trees with large crowns. Minimum spacing would leave 45-100 trees per acre depending on age, species, site quality, and average tree size. Within the LSR, thinning would vary to further enhance valuable habitat components such as species and structural diversity. Variable spacing that includes tree retention based on habitat value would leave 45-120 trees per acre across 90 percent of unit areas. About 10 percent of each unit would remain untreated.

In all management prescriptions, the proposed action would radial thin around rust-resistant sugar pine and some hardwoods, including black oak; remove most competing conifers in and near aspen clones; and prune residual trees at variable heights. Most of the plantations include islands of residual trees that pre-date the plantations which would be left untreated to provide diverse structure and habitat within the plantations.

About 80% of the treatment acres would have wood products removed using whole-tree-yarding to designated landings.

One or more of these secondary treatments, depending on site conditions, would follow the primary silvicultural treatments: (1) Masticate competing brush; (2) pile and burn activity fuels; (3) lop and scatter activity fuels; and (4) pull slash back or chip within 50 feet of National Forest System roads. Secondary treatments address predicted wildfire behavior by reducing hazardous fuels conditions.

The project would be accomplished under several Service and Timber Sale Contracts over a period of several years, dependent upon funding. Plantations to be treated are generally put together in contracts of 300 to 600 acres in size and located close to one another to be operationally and economically feasible. Additional vegetation and road treatments would be completed with Forest Service employees and agency owned machinery (i.e., force account), Youth Conservation Corp Crews, California Conservation Corp Crews and/or volunteers as funding allows. Treatment activities and road actions would occur between approximately May 1 and October 15 each year. Plantations with poor stand health and vigor and/or high fuel hazards would be treated first. Commercial removal units would be scheduled as soon as possible. Upon award, the average Service Contract vegetation treatment and related road closures would generally be completed within 18 months. Timber Sale Contracts can take anywhere from 1 to 5 years from award to completion. Associated road closures would occur upon completion of an activity in each contract/sale area boundary.

Road management activities necessary to implement the proposed action and also needed for future management activities include: 126 miles of road maintenance and 36 miles of reconstruction on National Forest System (NFS) roads. Existing unauthorized routes totaling 33 miles are proposed to be added to the NFS (these routes are currently open roads that are not part of the National Forest system under the Shasta-Trinity National Forests Motorized Travel Management, Final Environmental Impact Statement, 2010); and construction of 24 segments totaling 5.5 miles of new roads that would be added to the system.

Eighteen miles of existing unauthorized routes and 3.5 miles of new temporary roads would be decommissioned within 1-3 years of project conclusion.

Approximately 462 landings up to one-half acre in size (or up to one-quarter acre in the LSR) would be located within or near plantation boundaries where wood products would be removed.

Landings and skid trails would be rehabilitated when no longer needed for this project. Maintenance Level 1 (intermittent use) roads would be closed within 1-3 years of each contracts completion, until needed for future management activities.

The Proposed Action implements the Forest Plan standards and guides, management recommendations in the Forestwide Late Successional Reserve Assessment, the Forest's Fire Management Plan, and Regional Ecosystem Office guidance. Additional site-specific project design features and best management practices would be used to further protect resources. Coordination and consultation with the U.S. Fish and Wildlife Service will continue and consultation with the State Historic Preservation Office and Tribes is planned.

Responsible Official

J. Sharon Heywood, Forest Supervisor, Shasta-Trinity National Forest.

Nature of Decision To Be Made

The Forest Supervisor will decide whether to implement the proposed action, take an alternative action that meets the purpose and need, or take no action.

Permits or Licenses Required

A permit would be required from the State of California prior to burning piles. Storm Water Permits: The appropriate regulatory agencies will be consulted regarding national or state required permits associated with roads used in project implementation. Required permits will be obtained prior to implementation.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

Include the following information with your comments: your name, address, email (optional), and telephone number; the project name: East McCloud Plantations Thinning Project; and site-specific comments about the proposed action, along with supporting information you believe will help identify issues, develop alternatives, or predict environmental effects of this proposal. The most useful comments provide new information or describe unwanted environmental effects potentially caused by the proposed action. If you reference scientific literature in your comments, you must provide a copy of the entire reference you have cited and include rationale as to how you feel it is pertinent to the East McCloud Plantations Thinning Project.

Comments received in response to this solicitation, including names and addresses of those who comment, will be part of the public record for this proposed action. Comments submitted anonymously will be accepted and considered; however.

Dated: August 21, 2012.
J. Sharon Heywood,
Forest Supervisor.

[FR Doc. 2012-21712 Filed 8-31-12; 8:45 am]

BILLING CODE 3410-11-P